DEPARTMENT OF HOMELAND SECURITY

Transportation Security Administration

49 CFR Part 1540

RIN 1652-ZA13

Prohibited Items; New Enforcement Policy Regarding Lighters

AGENCY: Transportation Security Administration (TSA), DHS.

ACTION: Notice of enforcement policy.

SUMMARY: The Transportation Security Administration (TSA) is providing notice that, in accordance with section 530 of Public Law 109-295, TSA will not enforce the prohibition on bringing lighters onboard commercial aircraft. The effect of the new enforcement policy will be to allow passengers to carry a lighter onboard commercial aircraft. This action is being taken to enable Transportation Security Officers (TSOs) to concentrate on more effectively confronting the threat of concealed explosives and improvised explosive devices being brought into the cabin of an aircraft.

DATES: Effective August 4, 2007.

FOR FURTHER INFORMATION CONTACT: Kevin Donovan, Office of Security Operations, TSA-29, Transportation Security Administration, 601 South 12th Street, Arlington, VA 22202-4220; telephone (571) 227-3230.

SUPPLEMENTARY INFORMATION:

Availability of Documents

You can get an electronic copy using the Internet by—

(1) Accessing the Government Printing Office's Web page at http://www.gpoaccess.gov/fr/index.html; or

(2) Visiting TSA's Security Regulations Web page at http://www.tsa.gov and accessing the link for “Research Center” at the top of the page.

In addition, copies are available by writing or calling the individual in the FOR FURTHER INFORMATION CONTACT section.

Statutory and Regulatory Background

TSA is responsible for security in all modes of transportation, including aviation. See 49 U.S.C. 114(d). TSA restricts what passengers may carry into the sterile areas of airports and into the cabins of air carrier aircraft. Under TSA's regulation for acceptance and screening of individuals and accessible property, 49 CFR 1540.111, an individual (other than a law enforcement or other authorized individual) may not have a weapon, explosive, or incendiary, on or about the individual's person or accessible property—

• When performance has begun of the inspection of the individual's person or accessible property before entering a sterile area, or before boarding an aircraft for which screening is conducted under § 1544.201 or § 1546.201;

• When the individual is entering or in a sterile area; or

• When the individual is attempting to board or onboard an aircraft for which screening is conducted under § 1544.201 or § 1546.201.

On March 1, 2005 (70 FR 9877), TSA announced, via a notice in the Federal Register, a prohibition on passengers' ability to bring lighters onboard the cabin of an aircraft consistent with sec. 4025 of the Intelligence Reform and Terrorism Prevention Act of 2004 (IRTPA) (Pub. L. 108-458, 118 Stat. 3710, Dec. 13, 2004), which required TSA to add butane lighters to the prohibited items list and to make any other modifications that TSA deemed appropriate. Specifically, TSA prohibited passengers from carrying any type of lighter on their person or in accessible property in airport sterile areas or on board an aircraft for which screening is conducted.

Through this notice, TSA is changing its enforcement policy with respect to lighters. Under the new policy, TSA will no longer enforce the prohibition on lighters. The effect of this change in policy is to allow passengers to carry a lighter through a passenger screening checkpoint and into the cabin of an aircraft. Micro-torches and gas torches will continue to be prohibited.

New Enforcement Policy Regarding Lighters

In sec. 530 of the Department of Homeland Security Appropriations Act, 2007 (Pub. L. 109-295, 120 Stat. 1355, Oct. 4, 2006), Congress provided TSA with the authority to refrain from enforcing the statutory butane lighter ban, if the Assistant Secretary determines that butane lighters are not a significant threat to civil aviation security. If the Assistant Secretary determines that butane lighters are not a significant threat, the Assistant Secretary must notify the Appropriations Committees of the Senate and House of Representatives 15 days in advance of the determination and include a report on whether the effectiveness of screening operations is enhanced by suspending enforcement of the prohibition.

In accordance with this authority granted by Congress, TSA has determined, based on intelligence-driven threat assessments, that the carriage of butane and other types of lighters by passengers on board commercial aircraft does not pose a significant threat to civil aviation security. TSA has further determined that aviation security is better served if TSOs focus their efforts on detecting improvised explosive devices, firearms, and other deadly devices rather than searching for butane and other types of lighters. The search for lighters at screening checkpoints is a time consuming process that ultimately distracts TSOs from efforts to detect the type of deadly weapons likely to be used by terrorists and which could be used to inflict catastrophic damage to an aircraft and loss of lives.

Since TSA prohibited lighters on March 1, 2005, TSA continues to intercept more than 22,000 lighters each day at screening checkpoints across the country. Lighters represent approximately 85 percent of prohibited items discovered by TSA and abandoned by passengers at screening checkpoints. The number of lighters discovered at checkpoints and the time and effort dedicated to positively identifying them is clearly disproportionate to any threat they may pose.

Results from field surveys indicate that the greater the numbers of items TSOs are required to identify and evaluate, the more difficult it is to detect any one item. Accordingly, TSA has determined that aviation security is better served if TSOs are focused on detecting improvised explosive devices, firearms, and other deadly devices instead of employing resources in the search for lesser threats, such as lighters. Shifting attention from lower security risks to address markedly higher security risks is fundamental to a risk-based approach. TSA believes the effectiveness of screening operations will be enhanced if the time and resources devoted to detecting, collecting, and disposing of lighters is shifted to the search for higher threat items. Freeing TSOs from searching for lighters will not only enable them to focus on finding explosives, it will also enhance their ability to use behavior recognition, conduct random screening procedures, and deploy other measures that increase complexity in the security system and make its security protocols less transparent and predictable to potential terrorists.

It is noteworthy that the United States is currently the only country that bans lighters. Permitting passengers to carry lighters will align the United States with the international security standards on lighters. This will serve as another step in our efforts to harmonize security measures with international partners. Further, this change will better harmonize TSA's regulations with current Department of Transportation (DOT) regulations regarding the carriage of hazardous materials on board aircraft. Under the DOT regulations (49 CFR 175.10), a passenger may carry one lighter for the individual's use on his or her person or in carry-on baggage.

Issued in Arlington, Virginia, on July 19, 2007.
Kip Hawley,
Assistant Secretary.

[FR Doc. 07-3630 Filed 7-20-07; 1:37 pm]

BILLING CODE 9110-05-P